DEPARTMENT OF TRANSPORTATION

Surface Transportation Board

Notice and Request for Comments

AGENCY: Surface Transportation Board, DOT.

ACTION: 60-day notice of request for approval: Applications for Land-Use Exemption Permits.

SUMMARY: As required by the Paperwork Reduction Act of 1995, 44 U.S.C. 3501-3519 (PRA), the Surface Transportation Board (STB or Board) gives notice of its intent to seek from the Office of Management and Budget (OMB) an extension of approval for the collection of Applications for Land-Use Exemption Permits (for Solid Waste Rail Transfer Facilities).

Pursuant to 49 U.S.C. 10501(c)(2), as amended by the Clean Railroads Act of 2008 (CRA), the Board issued rules in Solid Waste Rail Transfer Facilities, EP 684 (served on March 24, 2011). Under these rules, a person seeking a Land-Use Exemption Permit must file an application including substantial facts and argument as to why a permit is necessary and, as required by the National Environmental Policy Act, an environmental report and/or an environmental impact statement.

Under 49 CFR 1155.20, an applicant is required to file a notice of intent to apply for a land-use-exemption permit before filing its application. A suggested form for this notice may be found in Appendix A to part 1155. Further, under 49 CFR 1155.21(e), an application must include a draft Federal Register notice. A suggested form for the draft Federal Register notice may be found at Appendix B to part 1155.

Comments are requested concerning: (1) The accuracy of the Board's burden estimates; (2) ways to enhance the quality, utility, and clarity of the information collected; (3) ways to minimize the burden of the collection of information on the respondents, including the use of automated collection techniques or other forms of information technology when appropriate; and (4) whether the collection of information is necessary for the proper performance of the functions of the Board, including whether the collection has practical utility. Submitted comments will be summarized and included in the Board's request for OMB approval.

Description of Collection

Title: Applications for Land-Use Exemption Permits.

OMB Control Number: 2140-0018.

STB Form Number: None.

Type of Review: Extension without change.

Respondents: Any applicant seeking a land-use-exemption permit.

Number of Respondents: One.

Estimated Time per Response: 160 hours.

Frequency: On occasion.

Total Burden Hours (annually including all respondents): 160 hours.

Total “Non-hour Burden” Cost: An estimated $200,000 to hire an environmental consultant to work with Board staff on the required environmental report.

Needs and Uses: This collection is needed to develop a record in land-use-exemption-permit proceedings, a process mandated by Congress in the CRA. The Board uses the information in this collection to accurately assess the merits of a permit application.

Retention Period: Information in this report will be maintained on the Board's Web site for a minimum of one year and will be otherwise maintained until transferred to NARA as a permanent record.

DATES: Comments on this information collection should be submitted by June 10, 2014.

ADDRESSES: Direct all comments to Chris Oehrle, Surface Transportation Board, 395 E Street SW., Washington, DC 20423-0001, or to PRA@stb.dot.gov. When submitting comments, please refer to “Applications for Land-Use Exemption Permits.” For further information regarding Land-Use Exemption Permits, contact PRA@stb.dot.gov or submit your question through E-FILING on the Board's Web site by selecting “Environmental Comments.” [Federal Information Relay Service (FIRS) for the hearing impaired: (800) 877-8339.]

SUPPLEMENTARY INFORMATION: Under the PRA, a federal agency conducting or sponsoring a collection of information must display a currently valid OMB control number. A collection of information, which is defined in 44 U.S.C. 3502(3) and 5 CFR 1320.3(c), includes agency requirements or requests that persons submit reports, keep records, or provide information to the agency, third parties, or the public. Under § 3506(c)(2)(A) of the PRA, federal agencies are required to provide, prior to an agency's submitting a collection to OMB for approval, a 60-day notice and comment period through publication in the Federal Register concerning each proposed collection of information, including each proposed extension of an existing collection of information.

Dated: April 8, 2014.
Jeffrey Herzig,
Clearance Clerk.

[FR Doc. 2014-08150 Filed 4-10-14; 8:45 am]

BILLING CODE 4915-01-P